FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

Atlantic Shipping Company, Inc., 56 Water Street, Fall River, MA 02721. Officers: Victor L. Depina, President (Qualifying Individual), Francisco P. Fernandes, Vice President.

Speedfreight Transport, LLC, Speedfreight Cargo Transport, 1012 Grand Chanpion Drive, Rockville, MD 20850. Officers: Charity De Asis, V.P. of Marketing/Opera. (Qualifying Individual), Rimando D. Roxas, COO.

Non-Vessel Operating Common Carrier and Ocean Freight Forwarder Transportation Intermediary Applicants:

TBS Logistics Incorporated dba Magnum Lines, 11731 Jones Road, Suite 200, Houston, TX 77070, Officer: Kurt Miller, Vice President (Qualifying Individual).

Livingston International, Inc. dba Livingston Customs Brokerage, 670 Young Street, Tonawanda, NY 14150. Officers: Henry Gayheart, Managing Director (Qualifying Individual), Maureen Anne Celmer, Senior Director.

Chaucer Freight LLC, 909 Ace Drive, Wood Dale, IL 60191. Officers: Richard Tilford, Operations Director (Qualifying Individual), Mandy June Dunn, Manager (Qualifying Individual).

Blue Ocean International Inc. dba Blue Ocean, Transport dba Blue Ocean Forwarding, 8424 Dundee Terrace, Miami Lakes, FL 33016. Officers: Juan Estelles, President (Qualifying Individual).

Lazo Cargo/Envios Corp, 529 NW 12 Avenue, Miami, FL 33136. Officers: Jairo J. Lazo, President (Qualifying Individual), Cynthia E. Lovo, Vice President.

Sifax Shipping Company, LLC, 2512 McAllister Road, Houston, TX 77092. Officers: Alfred Odetola, Operations Manager (Qualifying Individual). Clement O. Kembi, Director.

Trans-System Logistics, LLC., 701 North Poast Oak, Suite 301, Houston, TX 77024. Officers: Angelica Garcia-Dunn, Asst. Vice President (Qualifying Individual), Eddie Lawson, President.

Frami Freight IMP & EXP Inc., 8346 NW 68 Street, Miami, FL 33166. Officer: Franklin B. Cruz, President (Qualifying Individual).

Ocean Freight Forwarder—Ocean Transportation Intermediary Applicants:

Aprile USA, Inc., 1370 Broadway, Suite 1006, New York, NY 10018. Officers: Anna Cilento, Asst. Secretary (Qualifying Individual), Carlo Pozzi, President.

Dated: November 2, 2007.
Bryant L. VanBrakle,
Secretary.

[FR Doc. E7-21898 Filed 11-6-07; 8:45 am]

BILLING CODE 6730-01-P